DEPARTMENT OF HEALTH AND HUMAN SERVICES

Centers for Disease Control and Prevention

Agency for Toxic Substances and Disease Registry

Public Health Conference Support Grant Program

Announcement Type: New.

Funding Opportunity Number: 05002.

Catalog of Federal Domestic Assistance Number: The Centers for Disease Control and Prevention (CDC) Catalog of Federal Domestic Assistance (CFDA) number is 93.283. The Agency for Toxic Substances and Disease Registry (ATSDR) Catalog of Federal Domestic Assistance (CFDA) number is 93.161.

DATES: Key Dates:

Letter of Intent (LOI) Deadline: Cycle A: November 24, 2004; Cycle B: February 3, 2005.

Application Deadline: Cycle A: January 14, 2005; Cycle B: April 6, 2005.

I. Funding Opportunity Description

Authority: The Centers for Disease Control and Prevention (CDC) program is authorized under section 317(k)(2) of the Public Health Service Act, [42 U.S.C. 247b(k)(2)] as amended. The Agency for Toxic Substances and Disease Registry (ATSDR) program is authorized under sections 104 (i)(14) and (15) of the Comprehensive Environmental Response, Compensation, and Liability Act of 1980 (CERCLA), as amended by the Superfund Amendments and Reauthorization Act of 1986 (SARA), [42 U.S.C. 9604(i)(14) and (15)].

Purpose: The Centers for Disease Control and Prevention (CDC) and the Agency for Toxic Substances and Disease Registry (ATSDR) announce the pending availability of appropriated fiscal year (FY) 2005 funds for a grant program for Public Health Conference Support. This program addresses the “Healthy People 2010” focus areas of Disability and Secondary Conditions, Educational and Community-Based Programs, Environmental Health, Injury and Violence Prevention, Maternal, Infant and Child Health, Vision and Newborn Hearing (specifically newborn screening, evaluation and intervention), Public Health Infrastructure, Tuberculosis, Respiratory Diseases, and Sexually Transmitted Diseases (STD).

Human Immunodeficiency Virus (HIV) Conferences and HIV subject matter are covered under another program and are not permitted under this announcement.

The purpose of conference support funding is to provide partial support for specific non-Federal conferences (not a series) in the areas of health promotion and disease prevention information and education programs, and applied research. A series is the exact same conference conducted more than one time during the project period. An applicant can apply for funding for more than one different conference during the project period.

Congress has required that there will be active participation by CDC/ATSDR in the development and approval of the conference agenda to make sure there are no subjects that would embarrass the Government or be an improper use of funds including portions that are not funded by CDC/ATSDR. CDC/ATSDR funds will be expended only for approved portions of the conference.

The mission of CDC is to promote health and improve the quality of life by preventing and controlling disease, injury, and disability.

Through the support of conferences and meetings (not a series) in the areas of public health research, education, prevention research in program and policy development in managed care and prevention application, CDC is meeting its overall goal of dissemination and implementation of new cost-effective intervention strategies.

The mission of ATSDR is to prevent both exposure and adverse human health effects that diminish the quality of life associated with exposure to hazardous substances from waste sites, unplanned releases, and other sources of pollution present in the environment.

ATSDR's systematic approaches are needed for linking applicable resources in public health with individuals and organizations involved in the practice of applying such research. Mechanisms are also needed to shorten the time frame between the development of disease prevention and health promotion techniques and their practical application. ATSDR believes that conferences and similar meetings (not a series) that permit individuals to engage in hazardous substances and environmental health research, education, and application (related to actual and/or potential human exposure to toxic substances) to interact, are critical for the development and implementation of effective programs to prevent adverse health effects from hazardous substances.

Measurable outcomes of the program will be in alignment with one (or more) of the following performance goal(s):

Agency for Toxic Substances and Disease Registry (ATSDR):

• Prevent ongoing and future exposures and resultant health effects from hazardous waste sites and releases;

• Determine human health effects associated with exposures to superfund-related priority hazardous substances;

• Mitigate the risks of human effects at toxic waste sites with documented exposures;

• Build and enhance effective partnerships;

• Promote effective and efficient agency management.

National Center of Birth Defects and Developmental Disabilities (NCBDDD):

• Increase the consumption of folic acid among women of reproductive age to prevent serious birth defects;

• Decrease the number of women drinking during pregnancy;

• Monitoring speech, language, and other developmental outcomes of infants with hearing loss;

• Improve the data on the prevalence of birth defects and developmental disabilities;

• Find causes and risk factors for birth defects and developmental disabilities in order to develop prevention strategies;

• Monitor, characterize, and improve the health status of Americans with disabilities;

• Increase knowledge by developing and implementing evidence-based approaches on adverse consequences of hereditary conditions including blood disorders.

National Center for Environmental Health Services (NCEH):

• Determine Human Health effects associated with environmental exposures and hazards;

• Ensure laboratory standards are maintained in all certified labs for the following tests associated with health effects: Lipids, Newborn Screening, Blood Lead, and Urinary Iodine;

• Ensure that 100 percent of chemical stockpiles housed at federal facilities are disposed of without any serious injuries or deaths from chemical agents;

• Build and enhance effectively partnerships to improve environmental health capacity;

• Provide assistance to 20 partners;

• Promote effective and efficient NCEH management.

National Center for (HIV), STD, and Tuberculosis (TB) Prevention (NCHSTP):

• Strengthen the capacity of our STD, TB, and HIV prevention partners nationwide to monitor STD, TB, and HIV epidemic;

• Develop and implement effective STD, TB, and HIV prevention interventions, and evaluate prevention programs.

National Center for Injury Prevention and Control (NCIPC):

• Reduce the risk of youth violence;

• Reduce violence against women;

• Enhance the capacity of states to implement effective rape prevention and education programs;

• Reduce the number and severity of head injuries by increasing bicycle helmet use;

• Improve the timelines and quality of data used to determine the medical and social impact of traumatic brain injury;

• Reduce the incidence of residential fire-related injuries and deaths by increasing functional smoke alarms on every habitable floor;

• Increase external input on the research priorities, policies, and procedures related to the extramural research supported by CDC;

• Provide online access to injury prevention data;

• Improve the uniformity, quality, and accessibility of emergency department data for public health surveillance in several states; ultimately developing the capacity to improve data in all states through development of guidelines, recommendations, or technical assistance.

Public Health Practice Program Office (PHPPO):

• Continue efforts to protect the safety and security of laboratorians regarding the handling and processing of biological agents;

• Enhance the capacity (including laboratory) of CDC and state and local health departments to prepare for and respond to a biological and chemical terrorism event through rapid and accurate detection means, including the investigation and communication of critical information;

• Continue efforts to protect the health and safety of first responders during biological and chemical terrorism events.

• Implement training programs to provide an effective workforce for U.S. health departments and laboratories and ministries of health in developing countries;

• Ensure state and local health departments will monitor the health of its communities, and assist in the detection of emerging public health problems;

• Conduct research to identify and evaluate community-based prevention interventions;

• Strengthen the ability to obtain and disseminate extramural research findings to partners, public health practitioners, managed care organizations, and the public through a prevention research communications program;

• Increase input from the external scientific community on extramural prevention research and strengthen the scope and nature of extramural public health research programs;

• Disseminate research findings and other relevant information from prevention research programs to public health practitioners, managed-care organizations, and consumer groups;

• Increase collaborations focusing on innovative intervention methods.

This announcement is only for non-research activities supported by CDC/ATSDR. If research is proposed, the application will not be reviewed. For the definition of research, please see the CDC Web site at the following Internet address: http://www.cdc.gov/od/ads/opspoll1.htm.

Activities: In conducting activities to achieve the purpose of this program, the recipient will be responsible for the following activities:

• The conference organizer(s) may use CDC's/ATSDR's name only in factual publicity for the conference. CDC/ATSDR involvement in the conference does not necessarily indicate support for the organizer's general policies, activities, products, or the content of speakers' presentations.

• Any national conference co-sponsored under this announcement shall be held in facilities that are fully accessible to the public as required by the Americans with Disabilities Act Accessibility Guidelines (ADAAG)(Does not apply to international conferences). Accessibility under ADAAG addresses accommodations for persons with sensory impairments as well as persons with physical disabilities or mobility limitations.

• Manage all activities related to program content (e.g., objectives, topics, attendees, session design, workshops, special exhibits, speaker's fees, agenda composition, and printing). Many of these items may be developed in concert with assigned CDC or ATSDR project personnel.

• Provide draft copies of the agenda and proposed ancillary activities to CDC or ATSDR for approval. All but ten percent of the total funds awarded for the proposed conference will be initially restricted pending approval of a full, final agenda by CDC or ATSDR. The remaining 90 percent of funds will be released by letter to the grantee upon the approval of the final agenda. Because conference support by CDC and ATSDR creates the appearance of CDC co-sponsorship, there will be active participation by CDC or ATSDR in the development and approval of those portions of the agenda supported by CDC funds. CDC funds will not be expended for non-approved portions of meetings. In addition, CDC will reserve the right to approve or reject the content of the full agenda, press events, promotional materials (including press releases), speaker selection, and site selection. CDC and ATSDR reserve the right to terminate co-sponsorship if it does not concur with the final agenda.

• Determine and manage all promotional activities (e.g., title, logo, announcements, mailers, press, etc.). CDC or ATSDR must review and approve any materials with reference to CDC or ATSDR involvement or support.

• Manage all registration processes with participants, invitees, and registrants (e.g., travel, reservations, correspondence, conference materials and handouts, badges, registration procedures, etc.).

• Plan, negotiate, and manage conference site arrangements, including all audio-visual needs.

II. Award Information

Type of Award: Grant.

Fiscal Year Funds: FY 2005.

Approximate Total Funding: Approximately $600,000 may be available from CDC in FY 2005 to fund approximately 30 to 55 awards.

Approximately $25,000 is available from ATSDR in FY 2005 to fund approximately three to five awards.

Approximate Number of Awards: 60.

Approximate Average of Awards: It is expected that the average award will be $20,000 for CDC and $8,000 for ATSDR.

Floor of Award Range: None.

Ceiling of Award Range: None.

Anticipated Award Date: On or about sixty days before the date of the conference.

Budget Period Length: 12 month budget period for each cycle.

Project Period Length: 12 month project period for each cycle.

III. Eligibility Information

III.1. Eligible Applicants

Applications may be submitted for CDC support by public and private nonprofit organizations and by governments and their bona fide agencies, such as:

• Public nonprofit organizations.

• Private nonprofit organizations.

• Faith-Based organizations.

• Universities and Colleges.

• Voluntary associations.

• Foundations and civic groups.

• Scientific or professional associations.

• Federally recognized Indian tribal governments.

Applications for ATSDR support in addition to the above may be submitted by the official public health agencies of the States or their bona fide agents. This includes:

• The District of Columbia, the Commonwealth of Puerto Rico, the Virgin Islands, the Commonwealth of the Northern Marianna Islands, American Samoa, Guam, the Federated States of Micronesia, the Republic of the Marshall Islands, and the Republic of Palau.

• Political subdivisions of States (in consultation with States).

A bona fide agent is an agency/organization identified by the state as eligible to submit an application under the state eligibility in lieu of a state application. If you are applying as a bona fide agent of a state or local government, you must provide a letter from the state or local government as documentation of your status. Place this documentation behind the first page of your application form.

Also eligible are nationally and internationally recognized associations of health professionals and other chartered organizations generally recognized as demonstrating a need for information to protect the public from health effects of exposure to hazardous substances.

Only conferences planned for May 1, 2005 through September 30, 2006 are eligible to apply under this announcement.

III.2 Cost Sharing or Matching

Matching funds are not required for this program.

III.3 Other

CDC will accept and review applications with budgets greater than the ceiling of the award range. No ceiling limit has been established for Conference Support budgets. Refer to II Award Information for award ranges.

Special Requirements

• Late applications will be considered non-responsive. See section “IV.3. Submission Dates and Times” for more information on deadlines.

• Applicants who do not submit a LOI will not be eligible to submit an application for review or funding.

• Note: Title 2 of the United States Code Section 1611 states that an organization described in Section 501(c)(4) of the Internal Revenue Code that engages in lobbying activities is not eligible to receive Federal funds constituting an award, grant, or loan.

IV. Application and Submission Information

IV.1. To Request Application Package

To apply for this funding opportunity use application form PHS 5161-1 (OMB Number 0937-0189). Application forms and instructions are available on the CDC Web site, at the following Internet address: http://www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Letter of Intent (LOI):

A Letter of Intent is required for this Program Announcement. The LOI will not be evaluated or scored. Your LOI will be used to estimate the potential reviewer workload and to avoid conflicts of interest during the review. You must submit an original and two copies. If you do not submit a LOI, you will not be allowed to submit an application.

Your LOI must be written in the following format:

• Maximum number of pages: two to three typewritten pages.

• Font size: 12-point unreduced.

• Single spaced.

• Paper size: 8.5 by 11 inches.

• Page margin size: One inch.

• Printed only on one side of page.

• Written in plain language, avoid jargon.

Your LOI must contain the following information:

• The name of the organization.

• Primary contact person's name.

• Mailing address.

• Telephone number and, if available, fax and e-mail.

• Title of the proposed conference-include the term “conference,” “symposium,” or similar designation.

• Date(s) of conference-inclusive dates (not a series) of the conference. A series would be the exact same conference conducted more than one time.

• Location of city, state, and physical facilities required for the conduct of the meeting.

• Main Conference topics (no more than 2). See attachment II.

• Total conference cost and total requested from CDC (must be less than 100 percent).

• Intended audience, approximate number, and profession of persons expected to attend.

• Justification for the conference.

This information must also be included in a summary page sent with the application.

Application: You must submit a project narrative with your application forms. The narrative must be submitted in the following format:

• Maximum number of pages: 12 pages. If your narrative exceeds the page limit, only the first pages, which are within the page limit, will be reviewed.

• Font size: 12 point unreduced.

• Double spaced.

• Paper size: 8.5 by 11 inches.

• Page margin size: One inch.

• Printed only on one side of page.

• Clearly numbered pages.

• A complete index to the application and appendices.

• Held together only by rubber bands or metal clips; not bound in any other way.

Your narrative should address activities to be conducted during the entire project period:

• A brief background of the organization—include the organizational history, purpose, and previous experience related to the proposed conference topic.

• A clear statement of the need for and purpose of the conference. This statement should also describe any problems the conference will address or seek to solve, and the action items or resolutions it may stimulate.

• An elaboration on the conference objectives and target audience. A list should be included of the principal areas or topics to be addressed. A proposed or final agenda must be included.

• A clear description of the evaluation plan and how it will assess the accomplishments of the conference objectives. A sample of the evaluation instrument that will be used must be included and a step-by-step schedule and detailed operation plan of major conference planning activities necessary to attain specified objectives.

• Budget plan and justification—A clearly justified budget narrative that is consistent with the purpose, objectives, and operation plan of the conference. It should include the share requested from this grant as well as those funds from other sources, including organizations, institutions, conference income, and/or registration fees. (The 12 page limit does not include the budget.)

Additional information may be included in the application appendices. The appendices will not be counted toward the narrative page limit. This additional information includes:

• Biographical sketches are required for the individuals responsible for planning and implementing the conference. Experience and training related to conference planning and implementation as it relates to the proposed topic should be noted.

• Letters of endorsement or support—Letters of endorsement or support for the sponsoring organization and its capability to perform the proposed conference activity.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm.

Please include your DUNS number in your application cover letter.

IV.3. Submission Dates and Times

Deadline:

LOI and application deadlines have now been imposed for all conference support grants, and dates should be strictly followed by applicants to ensure that their LOIs and applications are received in a timely manner. There will be two conference support reviews this year. If your conference dates fall between May 1, 2005, to April 30, 2006, you should apply under Cycle A under this announcement.

If your conference dates fall between August 1, 2005, to September 30, 2006, you should apply under Cycle B under this announcement.

Letter of Intent Due Dates:

Cycle A: November 24, 2004.

For conferences May 1, 2005-April 30, 2006.

Cycle B: February 3, 2005.

For conferences August 1, 2005-September 30, 2006.

Letter of Intent (LOI) Submission:

On or before November 24, 2004, and February 3, 2005, submit an original and two signed copies of the LOI to: Technical Information Management PA#05002, Procurement and Grants Office, Centers for Disease Control and Prevention, 2920 Brandywine Road, Atlanta, GA 30341-4146.

Applicants who do not submit an LOI will not be eligible to submit an application for review or funding.

Application Due Dates: Earliest Possible Award Dates:CYCLE A: January 14, 2005, April 2005. CYCLE B: April 6, 2005, June 2005.

Submit application to:

Technical Information Management PA#05002, Procurement and Grants Office, Centers for Disease Control and Prevention, 2920 Brandywine Road, Atlanta, GA 30341-4146.

Applications may not be submitted electronically. Applications received that were not preceded by a LOI will not be reviewed or funded.

Explanation of Deadlines: LOIs and Applications must be received in the CDC Procurement and Grants Office by 4 p.m. Eastern Time on the deadline date. If you submit your LOI or application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

CDC will not notify you upon receipt of your submission. If you have a question about the receipt of your LOI or application, first contact your courier. If you still have a question, contact the PGO-TIM staff at: 770-488-2700. Before calling, please wait two to three days after the submission deadline. This will allow time for submissions to be processed and logged.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may be used for direct cost expenditures: Salaries; speaker fees (for services rendered); rental of necessary conference—related equipment; registration fees; and transportation costs (not to exceed economy class fare) for non-Federal individuals.

• Funds may be used for only those parts of the conference specifically supported by CDC or ATSDR as documented in the grant award.

• Funds may not be used for the purchase of equipment; payments of honoraria (different from speaker fees in that it would be for someone to draw attention to the conference such as a celebrity and who usually has no expertise in the public health area); alterations or renovations; organizational dues; support entertainment or personal expenses; food or snack breaks; cost of travel and payment of a Federal employee or per diem or expenses for local participants (other than local mileage). Travel for Federal employees will be supported by CDC/ATSDR. Travel for other Federal employees will be supported by the employees' Federal agency.

• Funds may not be used for reimbursement of indirect costs.

• CDC and ATSDR will not fund 100 percent of any conference proposed under this announcement. Part of the cost of the proposed conference must be supported with funds other than Federal funds.

• CDC and ATSDR will not fund a conference after it has taken place.

• Federal funds may not be used to fund novelty items or souvenirs.

Guidance for completing your budget can be found on the CDC Web site, at the following Internet address: http://www.cdc.gov/od/pgo/funding/budgetguide.htm.

IV.6. Other Submission Requirements

LOI and Application Submission Address: Submit your original and two hard copies of LOI and application by express mail or delivery service to: Technical Information Management Section, PA 05002, Procurement and Grants Office, Centers for Disease Control and Prevention, 2920 Brandywine Road, Room 3000, Atlanta, Georgia 30341-4146. LOIs and applications may not be submitted electronically at this time.

V. Application Review Information

V.1. Criteria

Applicants are required to provide measures of effectiveness that will demonstrate the accomplishment of the various identified objectives of the grant. Measures of effectiveness must relate to the performance goals stated in the “Purpose” section of this announcement. Measures must be objective and quantitative, and must measure the intended outcome. These measures of effectiveness must be submitted with the application and will be an element of evaluation.

Each application will be evaluated individually against the following criteria by an independent review group appointed by CDC.

Section 1.a., is ATSDR specific

Section 1.b., is CDC specific

Section 1.c., and all other sections in these criteria are applicable to both CDC and ATSDR. Each application will be evaluated based on the following criteria:

1. Proposed Program and Technical Approach (25 Points)

a. The public health significance of the proposed conference, including the degree to which the conference can be expected to influence the prevention of exposure and adverse human health effects and diminished quality of life associated with exposure to hazardous substances from waste sites, unplanned releases and other sources of pollution present in the environment (Applicable to ATSDR applications only).

b. The applicant's description of the proposed conference as it relates to specific non-Federal conferences in the areas of health promotion and disease prevention information/education programs (except substance abuse), including the public health need of the proposed conference and the degree to which the conference can be expected to influence public health practices. Evaluation will also be based on the extent of the applicant's collaboration with other organizations serving the intended audience (Applicable to all CDC applications except ATSDR).

c. The applicant's description of conference objectives in terms of quality, specificity, and the feasibility of the conference based on the operational plan will also be evaluated.

2. Conference Objectives (25 Points)

a. The overall quality, reasonableness, feasibility, and logic of the designed conference objectives, including the overall work plan and timetable are accomplished.

b. The likelihood of accomplishing conference objectives as they relate to disease prevention and health promotion goals, and the feasibility of the project in terms of the operational plan.

3. The Qualifications of Program Personnel (20 Points)

Evaluation will be based on the extent to which the application has described:

a. The extent to which the application provides evidence of the qualifications, experience, and commitment of the principal staff person, and his/her ability to devote adequate time and effort to provide effective leadership.

b. The extent to which the application provides evidence of the competence of associate staff persons, discussion leaders, speakers, and presenters to accomplish conference objectives.

c. The extent to which the application demonstrates the knowledge of nationwide and educational efforts currently underway which may affect, and be affected by, the proposed conference.

4. Evaluation Methods (20 Points)

Evaluation instrument(s) for the conference should adequately assess increased knowledge, attitudes, and behaviors of the target audience.

5. Applicant's Capability (10 Points)

a. The applicant's capability includes the adequacy of the applicant's resources (additional sources of funding, organization's strengths, staff time, proposed physical facilities, etc.) available for conducting conference activities.

b. The extent to which the applicant demonstrates a history (at least three years) of managing conferences.

6. Budget Justification and Adequacy of Facilities (Not Scored)

The proposed budget will be evaluated on the basis of its reasonableness, concise and clear justification, and consistent with the intended use of grant funds. The application will also be reviewed as to the adequacy of existing or proposed facilities and resources for conducting conference activities.

V.2. Review and Selection Process

Applications will be reviewed for completeness by the Procurement and Grants Office (PGO) staff, and for responsiveness by the relevant CIO. Incomplete applications and applications that are non-responsive to the eligibility criteria will not advance through the review process. Applicants will be notified that their application did not meet submission requirements.

An objective review panel consisting of CDC members outside the funding center will evaluate complete and responsive applications according to the criteria listed in the “V.1. Criteria” section above. Three reviewers from CDC staff that are not employees of the cognizant center will review and present their findings to the panel. The panel votes to approve or disapprove based on this information and each application is scored and ranked.

In addition, the following factors may affect the funding decision:

• Availability of funds

• Relevance to program priorities.

Applications will be funded in order by score and rank determined by the review panel. CDC/ATSDR will provide justification for any decision to fund out of rank order.

V.3. Anticipated Announcement and Award Dates

The anticipated announcement date is November 1, 2004 and the award dates will be 30-60 days before the conferences begin.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR part 74 and part 92.

For more information on the Code of Federal Regulations, see the National Archives and Records Administration at the following Internet address: http://www.access.gpo.gov/nara/cfr/cfr-table-search.html.

The following additional requirements apply to this project:

• AR-7 Executive Order 12372.

• AR-9 Paperwork Reduction Act Requirements.

• AR-10 Smoke-Free Workplace Requirements.

• AR-11 Healthy People 2010.

• AR-12 Lobbying Restrictions.

• AR-13 Prohibition on Use of CDC Funds for Certain Gun Control Activities.

• AR-15 Proof of Non-Profit Status.

• AR-20 Conference Support.

Additional information on these requirements can be found on the CDC Web site at the following Internet address: http://www.cdc.gov/od/pgo/funding/ARs.htm.

VI.3. Reporting Requirements

You must provide CDC with an original, plus two hard copies of the following reports:

1. Interim progress report, due no less than 90 days before the end of the budget period.

2. Financial status report, due no later than 90 days after the end of the budget period/project.

These reports must be mailed to the Grants Management or Contract Specialist listed in the “Agency Contacts” section of this announcement.

VII. Agency Contacts

We encourage inquiries concerning this announcement.

For general questions, contact: Technical Information Management Section, CDC Procurement and Grants Office, 2920 Brandywine Road, Atlanta, GA 30341, telephone: 770-488-2700.

For program technical assistance, contact: Refer to the Attachment for contacts listed per each center.

For business management assistance, contact: Edna Green, Grants Management Specialist, CDC Procurement and Grants Office, 2920 Brandywine Road, Atlanta, GA 30341, telephone: 770-488-2743. e-mail: egreen@cdc.gov.

VIII. Other Information

This and other CDC funding opportunity announcements can be found on the CDC Web site, Internet address: http://www.cdc.gov. Click on “Funding” then “Grants and Cooperative Agreements.”

Dated: October 27, 2004.
William P. Nichols,
Acting Director, Procurement and Grants Office, Centers for Disease Control and Prevention.

Attachment

Topic Areas of Programmatic Interest and Contact Information

100. Agency for Toxic Substances and Disease Registry (ATSDR)—LaShonda Billingsley, (404) 498-0275, LBillingsley@cdc.gov.

100.1 Health effects of hazardous substances in the environment;

100.2 Disease and toxic substance exposure registries;

100.3 Hazardous substance removal and remediation;

100.4 Emergency Response to toxic and environmental disasters;

100.5 Risk communication;

100.6 Environmental Disease Surveillance;

100.7 Investigation and research on hazardous substances in the environment

300. National Center on Birth Defects and Developmental Disabilities (NCBDDD)—Sheryl Heard, (404) 498-3978, SHeard@cdc.gov.

300.1 Birth Defects

300.2 Fetal Alcohol Syndrome

300.3 Disabilities: Issues related to people with disabilities; health promotion and intervention for persons with disabilities; secondary conditions; and aging and disability;

300.4 Newborn and Childhood screening: Hearing, metabolic, genetic, and developmental

300.5 Hearing Loss, early interventions, genetic causes

300.6 Mental Retardation

300.7 Child Development

300.8 Autism Spectrum Disorders and Other Developmental Disabilities

300.9 Hereditary Blood Disorders

500. National Center for Environmental Health (NCEH)—LaShona Billingsley, (404) 498-0275, LBillingsley@cdc.gov.

500.1 Genetics and Disease Prevention

500.2 Emergency and Environmental Health Services (lead poisoning, environmental health hazards)

500.3 Environmental Hazards and Health Effects (air pollution, asthma, health studies)

500.4 Division of Laboratory Sciences (air toxins, newborn screening)

600. National Center HIV, STD, and TB Prevention (NCHSTP)—Beth Wolfe, (404) 639-8531, BWolfe@cdc.gov.

600.1 Sexually Transmitted Diseases (not HIV)

600.2 Tuberculosis in Foreign Born Persons in the United States

600.3 Tuberculosis in African American Populations in the United States (especially in the Southeast)

600.4 Therapeutics and Diagnostics

800.0 National Center for Injury Prevention and Control (NCIPC)—Benjamin Moore, (770) 488-4710, Moore@cdc.gov.

800.1 Unintentional Injuries Prevention

800.2.1 National level conferences that focus on preventing child maltreatment before it occurs (primary prevention)

800.2.2 National level conferences that focus on preventing youth violence before it occurs (primary prevention)

800.3 Acute Injury Care

800.4 Traumatic Brain Injury (TBI)

800.5 Injury Related Disability

800.6 Preparedness and Response for Injuries Resulting from Mass Causality Events and/or Terrorist Attacks

800.7 Impact Biomechanics

1500. Public Health Practice Program Office (PHPPO)—Janet Telman, (770) 488-2834, JTelman@cdc.gov.

1500.1 Laboratory Practice

1500.2 Training and Materials

[FR Doc. 04-24390 Filed 11-1-04; 8:45 am]

BILLING CODE 4163-18-P